DEPARTMENT OF ENERGY

Federal Energy Regulatory Commission

[Docket No. CP08-8-000]

Leaf River Energy Center LLC; Notice of Availability of the Environmental Assessment for the Proposed Leaf River Storage Project

April 30, 2008.

The staff of the Federal Energy Regulatory Commission (FERC or Commission) has prepared an environmental assessment (EA) on the natural gas pipeline facilities proposed by Leaf River Energy Center LLC (Leaf River) in the above-referenced docket.

The EA was prepared to satisfy the requirements of the National Environmental Policy Act. The FERC staff concludes that approval of the proposed project, with appropriate mitigating measures, would not constitute a major federal action significantly affecting the quality of the human environment.

The U.S. Army Corps of Engineers is a federal cooperating agency for the development of this EA. A federal cooperating agency has jurisdiction by law or special expertise with respect to the proposed action and participates in the NEPA analysis.

The EA assesses the potential environmental effects of the construction and operation of Leaf River's proposed Leaf River Storage (LRS) Project. The LRS Project would involve construction of the following facilities in Smith, Jasper, and Clarke Counties, Mississippi:

• Four storage wells and caverns with a total working gas capacity of 32 billion cubic feet (Bcf);

• Seven 4,800-horsepower gas driven reciprocating compressor units at its proposed compressor station/gas handling facility along with gas dehydration equipment;

• Four water supply wells and four deep saltwater disposal wells, and construct a 16-inch-diameter water supply pipeline and a 16-inch-diameter saltwater disposal pipeline to these wells;

• 6.6 miles of dual bi-directional 24-inch-diameter natural gas pipelines called the Dome Lateral;

• The West-East Lateral which consists of a single 6.9 mile 24-inch-diameter natural gas pipeline to the west of the junction with the Dome Lateral and 30.2 miles of dual 24-inch-diameter natural gas pipelines to the east of the junction which would follow the corridor to be occupied by Gulf South Pipeline Company, LP's Southeast Expansion Project currently under construction;

• A fiber optic cable communication system from the gas handling facility along the header system to the interconnect locations to the cavern wells to transmit communications to operate the storage facility;

• A fiber optic cable from the gas handling facility to the water supply wells and salt water disposal wells and to the cavern wells to transmit communications to develop the cavern wells; and

• Four meter and regulator stations and five interstate gas transmission pipeline interconnections.

The purpose of the project is to provide high-deliverability, multi-cycle natural gas storage services to multiple interstate gas transmission systems.

The EA has been placed in the public files of the FERC. A limited number of copies of the EA are available for distribution and public inspection at: Federal Energy Regulatory Commission, Public Reference Room, 888 First Street, NE., Room 2A, Washington, DC 20426, (202) 502-8371.

Copies of the EA have been mailed to federal, state, and local agencies, public interest groups, interested individuals, newspapers, and libraries in the project area, and parties to this proceeding. Any person wishing to comment on the EA may do so. To ensure consideration prior to a Commission decision on the proposal, it is important that we receive your comments before the date specified below.

Please note that the Commission strongly encourages electronic filing of any comments or interventions or protests to this proceeding. See Title 18 of the Code of Federal Regulations, Part 385.2001(a)(1)(iii) and the instructions on the Commission's Internet Web site at http://www.ferc.gov under the link to “Documents and Filings” and “eFiling.” eFiling is a file attachment process and requires that you prepare your submission in the same manner as you would if filing on paper, and save it to a file on your computer's hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket.

If you are filing written comments, please carefully follow these instructions to ensure that your comments are received in time and properly recorded:

• Send an original and two copies of your comments to: Kimberly D. Bose, Secretary, Federal Energy Regulatory Commission, 888 First Street, NE., Room 1A, Washington, DC 20426;

• Reference Docket No. CP08-8-000;

• Label one copy of the comments for the attention of the Gas Branch 1, PJ-11.1; and

• Mail your comments so that they will be received in Washington, DC on or before May 30, 2008.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings. In addition, the Commission now offers a free service called eSubscription which allows you to keep track of all formal issuances and submittals in specific dockets. This can reduce the amount of time you spend researching proceedings by automatically providing you with notification of these filings, document summaries and direct links to the documents. Go to www.ferc.gov/esubscribenow.htm.

Kimberly D. Bose,
Secretary.

[FR Doc. E8-10172 Filed 5-7-08; 8:45 am]

BILLING CODE 6717-01-P